DEPARTMENT OF THE INTERIOR

Bureau of Land Management

[NV-025-1232-NX-NV06; Special Recreation Permit #NV-025-04-02]

Notice to the Public of Temporary Public Lands Closures and Prohibition of Certain Activities on Public Lands Administered by the Bureau of Land Management, Winnemucca Field Office, Nevada

AGENCY: Bureau of Land Management, Interior.

ACTION: Notice of temporary closure.

SUMMARY: Notice is hereby given that certain lands located in northwestern Nevada partly within the Black Rock Desert-High Rock Canyon Emigrant Trails National Conservation Area will be temporarily closed or restricted and certain activities will be temporarily prohibited in and around the Burning Man event site administered by the BLM Winnemucca Field Office in Pershing and Washoe Counties, Nevada.

The specified closures, restrictions and prohibitions are made in the interest of public safety at and around the public lands location of an event known as the Burning Man Festival. This event is authorized on public lands under a special recreation permit and is expected to attract approximately 35,000 participants this year.

These lands will be closed or restricted as follows:

• August 15, 2005 through September 19, 2005 inclusive: Discharge of firearms, possession of weapons, waste water disposal, and closed or restricted to camping.

• August 26, 2005 through September 5, 2005 inclusive: Aircraft landing, possession of fireworks, possession of alcohol by minors, and closed to all public uses.

• August 29, 2005 through September 5, 2005 inclusive: Closed or restricted to vehicle use.

Public camping and vehicle use that creates dust plumes higher than the top of the vehicle are prohibited from August 29, 2005 through September 5, 2005 inclusive in the following legally described locations outside the permit area (defined by a temporary event perimeter fence):

Mount Diablo Meridian

Unsurveyed T. 33 N., R. 24 E.,

Sec. 1, W½;

Secs. 2, 3 and 4;

Secs. 9, 10 and 11;

Sec. 12, W½;

Sec. 13, NW¼;

Sec. 14, N½;

Sec. 15, N½;

Sec. 16, N½.

Unsurveyed T. 33½ N., R. 24 E.,

Secs. 33, 34 and 35;

Sec. 36, W½.

Burning Man event ticket holders who are camped in designated areas provided by Black Rock City LLC (limited liability company) and ticket holders who are camped in the authorized “pilot camp” and BLM-authorized event management-related camps are exempt from the camping closure.

Public camping is prohibited from August 15, 2005 through August 28, 2005 inclusive and from September 6, 2005 through September 19, 2005 inclusive in the following legally described locations inside the permit area (defined by a temporary event perimeter fence), within 50 yards outside the perimeter fence boundary, and within the airport/airstrip area located contiguous with and south of the perimeter fence boundary:

Mount Diablo Meridian

Unsurveyed T. 33 N., R. 24 E.,

Secs. 2, 3 and 4;

Secs. 9, 10 and 11.

Unsurveyed T. 33½ N., R. 24 E.,

Secs. 33, 34 and 35.

These areas described above are closed two weeks preceding and following the Burning Man event. Black Rock City LLC authorized staff, contractors, volunteers, and participants constructing or taking down art exhibits and theme camps are exempt from the camping closure.

Operation of motorized vehicles is prohibited from August 29, 2005 through September 5, 2005 inclusive in the following legally described locations inside the permit area (defined by a temporary event perimeter fence) and within 50 yards outside the perimeter fence boundary:

Mount Diablo Meridian

Unsurveyed T. 33 N., R. 24 E.,

Secs. 2, 3, 4, 9, 10, and 11;

Unsurveyed T. 33½ N., R. 24 E.,

Secs. 33, 34 and 35.

The following exceptions apply: The main playa road that provides access between the 3-Mile and Trego playa entrances; participant arrival and departure on designated routes; mutant vehicles registered with Burning Man; Black Rock City LLC staff and support; BLM, medical, law enforcement, and firefighting vehicles; and motorized skateboards or “Go Peds” with or without handlebars. Mutant vehicles must be registered with Burning Man/Black Rock City LLC and drivers must provide evidence of registration at all times.

For event safety near the entrance road and airstrip, the following legally described locations outside the permit area (defined by a temporary event perimeter fence) are closed to all public use from August 29, 2005 through September 5, 2005 inclusive:

Mount Diablo Meridian

Unsurveyed T. 33 N., R. 24 E.,

Sec. 4, NE¼, S½;

Sec. 5, SE¼;

Sec. 8, NE¼, S½;

Sec. 9;

Sec. 10;

Sec. 15, N½;

Sec. 16, N½.

Unsurveyed T. 33½ N., R. 24 E.,

Sec. 33, SE¼;

Sec. 34, SW¼.

The following exceptions apply: The main playa road that provides access between the 3-Mile and Trego playa entrances; participant arrival and departure on designated routes; aircraft operations conducted through the authorized event landing strip and such ultralight and helicopter take-off and landing areas for Burning Man staff and participants, law enforcement, and emergency medical services as may be included in the annual operation plan submitted by Black Rock City, LLC and approved by the authorized officer; and uses performed by BLM personnel as designated by the authorized BLM officer.

The use, sale or possession of personal fireworks within the Burning Man event perimeter fence is prohibited in the following legally described locations from August 29, 2005 through September 5, 2005 inclusive.

Mount Diablo Meridian

Unsurveyed T. 33 N., R. 24 E.,

Secs. 2, 3, 4, 9, 10, and 11.

Unsurveyed T. 33½ N., R. 24 E.,

Secs. 33, 34 and 35.

The following exceptions apply: Uses of fireworks approved by Black Rock City LLC and used as part of an official Burning Man art burn event.

Possession of weapons is prohibited in the following legally described locations inside the temporary event perimeter fence from August 15, 2005 through September 19, 2005 inclusive:

Mount Diablo Meridian

Unsurveyed T. 33 N., R. 24 E.,

Secs. 2, 3, 4, 9, 10, and 11.

Unsurveyed T. 33½ N., R. 24 E.,

Secs. 33, 34 and 35.

The following exceptions apply: County, state, and federal certified law enforcement personnel under the color of law.

Note: “Weapon” means a firearm, compressed gas or spring powered pistol or rifle, bow and arrow, cross bow, blowgun, speargun, hand thrown spear, sling shot, irritant gas device, explosive device or any other implement designed to discharge missiles, and includes any weapon the possession of which is prohibited by state law.

Discharge of firearms is prohibited in the following legally described locations from August 15, 2005, through September 19, 2005:

Mount Diablo Meridian

Unsurveyed T. 33 N., R. 24 E.,

Secs. 1, 2, 3, 4, and 5;

Sec. 6, E½;

Secs. 8, 9, 10, 11, and 12;

Sec. 13, N½, SW¼;

Sec. 14, 15, and 16;

Sec. 17, E½, NW¼;

Sec. 21, NE¼;

Sec. 22, N½;

Sec. 23, NW¼.

Unsurveyed T. 33 N., R. 25 E.,

Sec. 4;

Sec. 9, W½, NW¼NE¼.

Unsurveyed T. 33½ N., R. 24 E.,

Secs. 25, 26, 27, 28, 29, 32, 33, 34, 35, and 36;

Unsurveyed T. 34 N., R. 24 E.,

Sec. 33, NE¼, S½;

Secs. 34 and 35;

Sec. 36, S½.

Unsurveyed T. 34 N., R. 25 E.,

Sec. 33.

The following exceptions apply: Law enforcement officers under color of law.

Aircraft are prohibited from landing, taking off, or taxiing in the following legally described locations from August 26, 2005 through September 5, 2005 inclusive:

Mount Diablo Meridian

Unsurveyed T. 33 N., R. 24 E.,

Secs. 1, 2, 3, 4, and 5;

Sec. 6, E½;

Secs. 8, 9, 10, 11, and 12;

Sec. 13, N½, SW¼;

Sec. 14, 15, and 16;

Sec. 17, E½, NW¼;

Sec. 21, NE¼;

Sec. 22, N½;

Sec. 23, NW¼.

Unsurveyed T. 33 N., R. 25 E.,

Sec. 4;

Sec. 9, W½, NW¼NE¼.

Unsurveyed T. 33½ N., R. 24 E.,

Secs. 25, 26, 27, 28, 29, 32, 33, 34, 35, and 36;

Unsurveyed T. 34 N., R. 24 E.,

Sec. 33, NE¼, S½;

Secs. 34 and 35;

Sec. 36, S½.

Unsurveyed T. 34 N., R. 25 E.,

Sec. 33.

The following exceptions apply: Aircraft operations conducted through the authorized event landing strip and such ultralight and helicopter take-off and landing areas for Burning Man staff and participants, law enforcement, and emergency medical services as may be included in the annual operation plan submitted by Black Rock City, LLC and approved by the authorized officer; and Emergency aircraft such as Care Flight, Sheriff's Office, or Medical Ambulance Transport System helicopters engaged in official business may land in other locations when circumstances require it.

Note: The authorized event airstrip is the only location where Burning Man staff and participant aircraft may land or take off.

Possession of alcohol by minors is prohibited in the following legally described locations within and surrounding the event perimeter fence from August 29, 2005 through September 5, 2005 inclusive:

Mount Diablo Meridian

Unsurveyed T. 33 N., R. 24 E.,

Secs. 1, 2, 3, 4, and 5;

Sec. 6, E½;

Secs. 8, 9, 10, 11, and 12;

Sec. 13, N½, SW¼;

Sec. 14, 15 and 16;

Sec. 17, E½, NW¼;

Sec. 21, NE¼;

Sec. 22, N½;

Sec. 23, NW¼.

Unsurveyed T. 33 N., R. 25 E.,

Sec. 4;

Sec. 9, W½, NW¼NE¼.

Unsurveyed T. 33½ N., R. 24 E.,

Sec. 25, 26, 27, 28, 29, 32, 33, 34, 35, and 36;

Unsurveyed T. 34 N., R. 24 E.,

Sec. 33, NE¼, S½;

Secs. 34 and 35;

Sec. 36, S½.

Unsurveyed T. 34 N., R. 25 E.,

Sec. 33.

a. The following are prohibited:

i. Consumption or possession of any alcoholic beverage by a person under 21 years of age on public lands.

ii. Selling, offering to sell, or otherwise furnishing or supplying any alcoholic beverage to a person under 21 years of age on public lands.

b. This section does not apply to the selling, handling, serving or transporting of alcoholic beverages by a person in the course of his lawful employment by a licensed manufacturer, wholesaler or retailer of alcoholic beverages.

Dumping wastewater (grey or black) is prohibited on public lands from August 15, 2005 through September 19, 2005 inclusive. This includes but is not limited to dumping wastewater on public lands directly from a vehicle, trailer, wash basin, shower stall, bath tub, barrel, pool, or large water containment receptacle. “Wastewater” is defined as any liquid that is contaminated with soap, food waste, human waste, gas or oils, or other chemical that could cause harm to the human or natural environment. Event participants must transport wastewater off-site to an approved disposal site.

Black Rock City LLC/Burning Man will abide by fire restriction orders, except for the following when officially approved by BLM upon the request of Black Rock City LLC: Official art burns, authorized event fireworks, and other authorized fires using Black Rock City LLC/Burning Man-supplied fire barrels or approved platforms. Fire Restriction Orders may be in effect pursuant to 43 CFR 9212.2 for all lands managed by the BLM Winnemucca Field Office.

DATES: August 15, 2005, to September 19, 2005.

FOR FURTHER INFORMATION CONTACT: Dave Cooper, National Conservation Area Manager, Bureau of Land Management, Winnemucca Field Office, 5100 E. Winnemucca Blvd., Winnemucca, NV 89445-2921, telephone: (775) 623-1500.

Authority: 43 CFR 8364.1.

Penalty: Any person failing to comply with the closure orders may be subject to imprisonment for not more than 12 months, or a fine in accordance with the applicable provisions of 18 U.S.C. 3571, or both.

Rodger T. Bryan,
Acting Field Manager.

[FR Doc. 05-17643 Filed 9-6-05; 8:45 am]

BILLING CODE 4310-HC-P